DEPARTMENT OF AGRICULTURE

Office of the Secretary

Proposed Uniform Guidelines for Conducting Farm Service Agency County Committee Elections

AGENCY: Department of Agriculture.

ACTION: Notice with request for comments.

SUMMARY: The Secretary of Agriculture (the Secretary) is issuing, and inviting public comment on, proposed uniform guidelines for conducting elections of Farm Service Agency (FSA) County Committees. The Secretary is issuing the proposed uniform guidelines pursuant to section 10708 of the Farm Security and Rural Investment Act of 2002 (Pub. L. 107-171), (the 2002 Farm Bill), to ensure that FSA County Committees are fairly representative of the agricultural producers covered by the relevant county or counties, including fair representation of socially disadvantaged (SDA) farmers and ranchers on FSA County Committees. The uniform guidelines will address County Committee election outreach efforts, procedures for nomination and election of FSA County Committee members, and reporting and accountability requirements by FSA. FSA will be required to follow such uniform guidelines in conducting FSA County Committee elections.

DATES: Comments must be received by September 16, 2004.

ADDRESSES: The Secretary invites interested persons to submit comments on this notice. Comments may be submitted by any of the following methods:

• E-mail: Send comments to: countyelectionguidelines@usda.gov.

• Mail: Send comments to: County Committee Election Reform Comments, Department of Agriculture, Room 3092-S, Mail Stop 0539, 1400 Independence Ave., SW., Washington, DC 20250-0539.

• Hand Delivery or Courier: Deliver comments to the above address.

All comments, including names and addresses, provided by respondents become a matter of public record. Comments may be inspected in the office of the Deputy Administrator for Field Operations, FSA, at the above address. Make inspection arrangements by calling (202) 720-7890.

FOR FURTHER INFORMATION CONTACT: Ken Nagel, Administrative Management Specialist, Office of the Deputy Administrator for Field Operations, FSA, at (202) 720-7890 or at ken.nagel@usda.gov. Persons with disabilities who require alternative means for communication (Braille, large print, audiotape, etc.) should contact the USDA Target Center at (202) 720-2600 (voice and TDD).

SUPPLEMENTARY INFORMATION:

Background

FSA County Committees play an instrumental role in administering FSA programs at the local level, including carrying out FSA programs that have a financial impact on participating farmers and ranchers. The membership of each committee is comprised of three to five agricultural producers who participate or cooperate in FSA programs in the area under a committee's jurisdiction. 16 U.S.C. 590h(b)(5)(ii). County Committee members are elected to their positions by agricultural producers who participate or cooperate in programs administered in the area under the jurisdiction of the County Committee. Id. By statute, County Committees must be “fairly representative” of the agricultural producers in the area under a committee's jurisdiction. 16 U.S.C. 590h(b)(5)(B)(ii).

The 2002 Farm Bill made significant changes to the process governing County Committee elections. The purpose of these changes was to ensure public transparency and accountability of election results, as well as to ensure the fair representation of SDA producers on County Committees. Adopting the definition set forth in 7 U.S.C. 2003, the Farm Bill defines an SDA group as a group whose members have been subject to racial, ethnic, or gender prejudice because of their identity as members of the group, without regard to their individual qualities. 7 U.S.C. 2003(e)(1). SDA producers have generally been defined to include African-Americans, Hispanic Americans, Native Americans, Asian-Pacific Americans, Subcontinent Asian-Americans, and women. By statute, USDA must solicit nominations for County Committee positions from organizations representing the interests of SDA groups. 16 U.S.C. 590h(b)(5)(B)(iii)(III)(bb). Under current practice, when FSA concludes that SDA producers are underrepresented on a given County Committee, a person may be appointed to be an advisor to the County Committee. A County Committee advisor is a member of the County Committee without voting authority who represents the interests of SDAs.

The first change made by the 2002 Farm Bill was to specifically define the class of agricultural producers who are eligible to vote for County Committee members as those producers who participate or cooperate in programs administered by FSA in the area under the committee's jurisdiction. 16 U.S.C. 590h(b)(5)(B)(ii)(II) and (b)(5)(B)(iii)(III)(aa). The Farm Bill also mandates public access requirements relating to county elections, requiring FSA County Committees to open and count the ballots in public, allowing the public to observe the opening and counting of the ballots, and giving the public a 10-day notice of the date, time, and place that the ballots will be tabulated. 16 U.S.C. 590h(b)(5)(B)(iii)(IV).

To further promote transparency and public accountability, the Farm Bill imposes several reporting requirements with regard to the results of County Committee elections. No later than 20 days after an election is conducted, each County Committee must file with the Secretary and the State FSA office a report on the election results. This local report must provide data including the number of eligible voters, the number of ballots cast and disqualified, and the race, ethnicity, and gender of the nominees for County Committee positions. 16 U.S.C. 590h(b)(5)(B)(iii)(V). Also, no later than 90 days after the date of the first election held after enactment of the Farm Bill (which would have been the 2002 election), the Secretary was required to compile a national report consolidating data on election results submitted by County Committees. Id. 16 U.S.C. 590h(b)(5)(B)(iii)(VI). Such national reports on the 2002 and 2003 elections were prepared and made public. These national reports may be viewed at http://www.fsa.usda.gov/pas/EFOIA/efoiaread.htm.

Most critically for present purposes, the 2002 Farm Bill gives the Secretary discretion to issue uniform guidelines governing the County Committee election process if she deems that such guidelines are necessary after analyzing the data from the national report. 16 U.S.C. 590h(b)(5)(B)(iii)(VII)(aa). If these guidelines are issued, they must contain provisions ensuring fair representation of SDA producers on County Committees where they are underrepresented in relation to their presence in the respective covered areas. 16 U.S.C. 590h(b)(5)(B)(iii)(VII)(bb). Further, the draft uniform guidelines must be published in the Federal Register once they are issued. Id.

After reviewing the national reports on the 2002 and 2003 election, the Secretary has determined that issuing such uniform guidelines is appropriate. The Secretary recognizes the importance of ensuring that the County Committee election process is fair and transparent and that producers are fairly represented on FSA County Committees. Uniform guidelines issued by the Secretary are a useful vehicle to meet this goal. The publication of uniform guidelines will make public the principles and procedures under which FSA will conduct such elections, thus contributing to the transparency and accountability of the process. FSA will be required to follow such guidelines in conducting County Committee elections, and FSA regulations and directives on conducting such elections must conform to these guidelines.

The proposed guidelines were prepared with the input of personnel from a number of USDA agencies, including FSA, the Office of the Assistant Secretary for Civil Rights, the Office of Budget and Policy Analysis, the National Agricultural Statistics Service, and others. Before finalizing such guidelines, the Secretary is interested in obtaining comments and input on such guidelines from interested persons and groups. Accordingly, USDA is issuing proposed guidelines, and is providing a 30-day period for comments. USDA intends to act in accordance with the proposed guidelines in preparing for the 2004 FSA County Committee elections, even while comments are being made and reviewed.

It should be noted that FSA already has undertaken a number of reforms and steps to ensure fair representation of SDA producers on County Committees. Such steps were taken in regard to the 2003 election and are being applied to the upcoming 2004 election. Reform steps taken to date include: (1) Centralization of ballot preparation and distribution; (2) improvements in the nominating process; (3) outreach to key local, State, and national organizations; and (4) initiation of processes to collect and analyze additional demographic data that will permit better identification of counties in which improved representation will be sought. The uniform guidelines will incorporate reforms already in progress, as well as provide additional election reforms.

Specifically, the uniform guidelines will address outreach to producers, nomination and election procedures, and reporting and accountability requirements. The uniform guidelines are generally intended to ensure that all eligible producers have an opportunity to participate in the election process, that there are no obstacles to participation, and that the process is transparent and accountable.

The proposed guidelines place a special emphasis on outreach efforts to producers eligible to vote, including SDA producers. USDA is committed to improving participation in the County Committee election process by increasing outreach efforts, providing more printed and electronic information to producers through a variety of sources and methods, and developing partnerships with groups representing the interests of producers, including SDA producers, as well as community-based institutions and educational institutions. FSA will work with members of such groups and institutions to encourage eligible voters to participate in County Committee elections and to nominate SDA producers. The Secretary expects FSA to work closely with the Office of the Assistant Secretary for Civil Rights (ASCR), and relevant offices under the ASCR's jurisdiction such as the Office of Outreach, to improve FSA's outreach efforts.

The proposed uniform guidelines also address procedures for the election process itself. Among the key provisions, which include steps FSA is already implementing as well as new procedures, are the following: (1) An annual review of the local administrative area (LAA) boundaries (the specific area within a county or counties that a single County Committee member represents) in order to determine if redrawing the boundaries or changing the number of LAAs in a county is appropriate to ensure fair representation of producers; (2) approval by the FSA State office of any changes in LAA boundaries or number of LAAs; (3) regular maintenance of lists of eligible voters; (4) review by the FSA State office of voter ineligibility determinations made by an FSA County Committee when review is sought by a producer; (5) direct mailing of nomination forms to eligible voters, as well as wider public accessibility of such forms; (6) when no nominations are filed, ensuring that the slate is filled with at least one member of an SDA group; (7) providing the Secretary with the authority to nominate candidates; (8) direct mailing of ballots to the State office, which will then provide the ballots to each county office in a sealed box to be opened at the public counting of ballots; and (9) a decrease in the term limits for County Committee members to two consecutive terms.

Finally, the proposed uniform guidelines contain extensive reporting and accountability requirements. Each FSA county office will be required to submit several reports to the FSA State and national offices on its actions in complying with the uniform guidelines and FSA regulations on elections, including the county's outreach efforts. Based on this reporting, the FSA national office will provide feedback and guidance to county offices on their outreach efforts and on the election process. FSA will also be required to conduct training of county employees on implementation of the uniform guidelines and FSA's regulations.

The uniform guidelines are not intended to be the final word on FSA County Committee election reform. USDA intends to continually monitor the effectiveness of election reform efforts in order to determine if the measures contained in these guidelines are sufficient to ensure fair representation of producers on County Committees. This will include efforts to improve the collection of data required to measure whether there is fair representation. USDA will also continue to improve the implementation of these guidelines, as well as to determine if additional efforts are necessary. Such additional efforts could include compliance reviews of particular counties and further centralization of the election process.

One of the possible additional measures is provided for in the Farm Bill itself. The Farm Bill provides that the Secretary is permitted to ensure the inclusion of SDA producers on County Committees by enacting provisions allowing for the appointment of an additional voting member to the committee. Id. 16 U.S.C. 590h(b)(5)(B)(iii)(VII)(cc). The Secretary has the discretion whether to exercise this authority. The Secretary intends to continually evaluate whether the reforms set forth in the uniform guidelines are achieving their goal of ensuring fair representation of SDA producers. Based on such evaluations, the Secretary will determine whether to exercise her authority to appoint SDA producers to committees. In the event that the Secretary does decide to utilize the appointment authority, the Secretary will only do so after providing an opportunity for the public to comment on proposed provisions under which such appointment will be made.

Accordingly, USDA hereby issues proposed Uniform Guidelines for Conducting FSA County Committee Elections, as follows:

Secretary of Agriculture

Uniform Guidelines for Conducting Farm Service Agency County Committee Elections

Pursuant to section 10708 of the Farm Security and Rural Investment Act of 2002, (Pub. L. 107-171)(7 U.S.C. 2279-1), the Secretary of Agriculture is issuing the following uniform guidelines for conducting elections to County Committees of the Farm Service Agency (FSA), United States Department of Agriculture (USDA). The purpose of such guidelines is to ensure that such County Committees are fairly representative of the agricultural producers covered by the relevant county or counties, including to ensure fair representation of socially disadvantaged (SDA) farmers and ranchers on such committees, as well as to ensure public transparency and accountability of the election process.

Accordingly, the Farm Service Agency (FSA) shall conduct elections of members to FSA County Committees in accordance with the following guidelines.

I. County Committee Election Outreach and Communication Efforts

A. FSA will ensure that outreach efforts are taken at the national, State, and local levels to ensure the fair representation of agricultural producers in a given county or area, including fair representation of SDA farmers and ranchers. Such efforts must be designed to increase the participation of eligible producers in the County Committee election process.

B. Each FSA county office will work with the State office to prepare an outreach plan, with specific steps that the county office will take on a year-long basis to increase the participation of producers generally and SDA producers specifically. A report detailing county office outreach efforts shall be submitted to the Office of the Deputy Administrator for Field Operations, FSA prior to the end of the nomination period.

C. FSA county and State offices, with guidance from the FSA national office, will prepare a list of group contacts with which FSA will work on its outreach efforts. Such group contacts should include, as appropriate, land grant colleges, Historically Black Colleges and Universities, Hispanic-serving institutions, tribal colleges, American Indian tribal organizations, community-based organizations, civic or charitable organizations, faith-based organizations, groups representing minorities and women, groups specifically representing the interests of SDA producers, and similar groups and individuals in the community.

D. FSA county and State offices will either develop partnerships with the group contacts or work with them on outreach efforts as appropriate to assist FSA in outreach efforts to SDA producers. County and State offices will also ensure that all group contacts are provided with all appropriate election materials on a timely basis, including fact sheets, posters, brochures, and nominations forms.

E. FSA State Outreach Coordinators, State Communications Coordinators, Field Public Affairs Specialists, and other relevant State office personnel shall work together in developing and implementing State communications plans for the election process.

F. FSA county offices shall ensure maximum publicity to remind and inform SDA farmers and ranchers of both the nomination and the election deadlines. FSA county offices shall ensure that all written election material is available in the county office, is prominently displayed and disseminated in the local area, and is provided to all group contacts. FSA shall ensure that all communications on the election process are available in languages other than English and in alternative formats when appropriate. County Committee election communications materials (nomination forms, fact sheets, posters, etc.) shall be posted on FSA's Web site at: http://www.fsa.usda.gov/pas/publications/elections/.

G. County offices shall ensure that information relating to elections is widely communicated, including the use of traditional and non-traditional media outlets. Media outlets should include television, radio, public service announcements, SDA organization newsletters, and other minority publications.

H. FSA county offices, as monitored by the FSA State offices and State committees, shall actively locate and recruit eligible candidates identified as SDA farmers and ranchers as potential nominees for the County Committee elections using any reasonable means necessary. FSA shall work with leaders within the SDA community to identify eligible nominees. Community leaders who are eligible producers should be encouraged to become candidates for County Committee membership.

I. FSA State offices shall ensure that county offices are taking all appropriate outreach and communication efforts, including follow-up visits to county offices.

J. The FSA national office shall provide specific written guidance to State and county offices on County Committee election outreach and communication efforts. The national office shall also develop partnerships with appropriate national organizations to assist in outreach efforts. The national office shall work closely with the Office of the Assistant Secretary for Civil Rights in developing and implementing outreach policy and activities.

II. County Committee Election Procedures

A. Local Administrative Areas

1. County Committees shall continue to annually review and provide State Committees with proposed changes in local administrative area (LAA) boundaries within each FSA county office jurisdiction no later than May 1 of each year. County Committees shall ensure that any LAA changes are in effect no later than July 15 of each year. Each FSA county office shall post the LAA boundaries in the county office, as well as locally publicize such boundaries in the county office newsletter and local media.

2. The FSA national office shall provide guidelines to County Committees on how to conduct the annual review of LAA boundaries. Such guidelines shall require the County Committees, in conducting the annual review of LAA boundaries, to determine whether redrawing the LAA boundaries or increasing the number of LAAs in a given area will assist in ensuring the fair representation of SDA producers in the area over which the committee has jurisdiction.

3. If a County Committee determines that LAA boundaries should be redrawn or that the number of LAAs should be changed, the FSA State Committee must approve any such determination before such a change is implemented.

4. Apart from the annual review of LAAs by County Committees, the FSA national office and State Committees shall conduct annual reviews of selected County Committees in order to determine whether redrawing the LAA boundaries or increasing the number of LAAs in a given area will assist in ensuring the fair representation of SDA producers in the area over which the committee has jurisdiction. The FSA national office and State Committees shall select such County Committees for annual reviews when they deem such reviews are appropriate based on evidence of possible under-representation of SDAs on a given County Committee.

B. Eligible Voters

1. County Committees shall maintain in the county office no later than July 15 of each year a current and updated list of eligible voters for each LAA conducting an election during the year. County Committees shall provide the list to any nominee requesting the list. County Committees shall maintain updated lists of eligible voters throughout the nomination and election period. Any person may contact a county office, either in person or in writing, in order to ascertain whether they are on the eligible voters list.

2. Any producer deemed to be ineligible to vote and who is not on the list of eligible voters who believes that he or she should be on the list may file a written challenge with the County Committee at any time. The County Committee must provide a response to the challenge within 15 calendar days. If the County Committee denies the challenge, the producer may appeal such denial to the State Committee.

3. The County Committee shall provide to the State Committee a report of any producer who the County Committee has specifically declared ineligible as a voter. The State Committee may overturn any ineligibility determination and direct that the County Committee add that producer to the list of eligible voters.

C. Nominations

1. Nomination forms shall be directly mailed to every eligible voter no later than July 15 of each year. Such nomination forms may be mailed to eligible voters by including the form as part of the mailing of an FSA county newsletter mailed to producers.

2. Nomination forms shall be easily accessible to the public, including on the FSA Internet site year round. Nomination forms shall be readily available at FSA county offices and provided to the public upon request. The FSA State and county offices shall provide reproducible nomination forms to all of their group contacts.

3. The official nominating period for County Committee election candidacy shall run for 6 weeks after the official opening date.

4. Individuals desiring to file a nomination may nominate themselves or may nominate another eligible candidate. Nominees, whether self nominated, or nominated by another, must attest to their willingness to serve by signing the nomination form. Organizations representing SDA farmers and ranchers may nominate any eligible candidate.

D. Slate of Candidates

1. If at least one nomination for candidacy is filed for an LAA for the County Committee election, the County Committee shall not add names to the slate of candidates after the close of the nomination period.

2. If no valid nominations are filed, the Secretary may exercise her authority to nominate up to two individuals to be placed on the ballot. If the Secretary chooses not to exercise her authority, then the State Committee may exercise its authority to nominate up to two individuals to be placed on the ballot. If neither the Secretary nor the State Committee chooses to exercise their authority, then the respective County Committee shall nominate two individuals to be placed on the ballot.

3. Write-in candidates shall be accepted on ballots. The write-in candidate must meet eligibility criteria and attest to willingness to serve prior to being certified as a member or alternate member. Write-in candidates may serve as County Committee members or as alternates depending on the number of votes received.

4. Notwithstanding the above guidelines, the Secretary may nominate an eligible SDA producer to a slate regardless of whether any nominations have been filed. A nomination by the Secretary may include the current advisor for the County Committee.

E. Balloting and Vote Tabulation

1. Ballots shall be mailed to all eligible voters contained in the County Office records in the LAA conducting the election. Ballots shall be mailed no less than 4 calendar weeks prior to the date of the election. Ballots will be printed and mailed to eligible voters from a central location. Ballots shall be provided to anyone requesting a ballot. Voter eligibility shall be determined prior to tabulating the votes. Ballots shall state the date, time, and location that votes will be counted.

2. County Committee elections will be held the first Monday of December each year, unless announced otherwise. Voters shall mail or deliver ballots to the FSA State office. Ballots must be postmarked by the election date or, if delivered, received by the election date.

3. The FSA State office shall deliver the ballots in a sealed box to the FSA county office. There shall be a 10-day advance notice to the public of the date of the vote counting. Ballot opening and vote counting shall be fully open and readily accessible to the public. The seal on the ballot box from the State office shall not be broken except at the public ballot counting.

F. Challenges

1. Any nominee shall have the right to challenge an election in writing, in person, or both within 15 days after the results of the election are posted. Appeals to the election shall be made to the County Committee, which will provide a decision on the challenge to the appellant within 7 calendar days. The County Committee's decision may be appealed to the State Committee within 15 days of receipt of the notice of the decision if the appellant desires.

2. In the event that an election is nullified as a result of an appeal or an error in the election process, a special election shall be conducted by the county office and closely monitored by the FSA State office. A special election shall be held according to the processes for a regular election, but with different dates.

G. Term Limits

1. No member of a County Committee may serve more than two consecutive terms. This provision shall take effect with the 2005 election.

III. Reporting and Accountability Requirements

A. Not later than 20 days after the date an election is held, each County Committee shall file an election report on the results of the election with the FSA State and national offices. The FSA national office shall provide specific guidance to county offices on the form and contents of this report. At a minimum, the report must include:

1. The number of eligible voters in the LAAs conducting the election (including the percentage of eligible voters that cast ballots);

2. The number of ballots cast by eligible voters;

3. The number of ballots disqualified in the election;

4. The percentage that the number of ballots disqualified is of the number of ballots received;

5. The number of nominees for each seat up for election;

6. The race, ethnicity, and gender of each nominee, and

7. The final election results (including the number of ballots received by each nominee).

B. After each election, the FSA national office shall compile the county election reports into a national election report to the Secretary. The national election report shall also be available to anyone requesting a paper copy of the report and also shall be posted to the FSA Web-site. The national election report shall include election data on SDA County Committee representation by county.

C. Not later than 90 days after the date an election is held, each County Committee shall file a separate written election reform report with the FSA State and national offices detailing its efforts to comply with the uniform guidelines and FSA regulations and directives on County Committee elections. This report must contain a detailed description of county office outreach efforts. The FSA national office shall provide specific guidance to the county offices on the form and contents of this report.

D. Based on the county election reports and the county election reform reports, the FSA national office shall provide feedback and guidance to FSA county and State offices on the election process, including outreach efforts. The FSA national office shall also, based on its review of the county election reform reports, as well as its analysis of the data on SDA representation, submit an annual report to the Secretary on election reform efforts, including recommendations on further improvements in the County Committee election process.

IV. Additional Election Reform Efforts

A. USDA shall consider additional efforts to ensure such fair representation. Such additional efforts may include, but are not limited to, compliance reviews of selected counties by FSA's and USDA's Offices of Civil Rights; consideration of at-large seats or cumulative voting for certain County Committees; further centralization of the election process; and the issuance of provisions allowing for the appointment of an SDA voting member to particular committees pursuant to the 2002 Farm Bill.

V. Implementation of Uniform Guidelines

A. The FSA national office shall ensure that it issues all appropriate regulations, instructions, directives, notices, and manuals to implement the terms of these uniform guidelines.

B. FSA shall institute a comprehensive monitoring process, including spot checks on selected counties, to ensure compliance with these guidelines and FSA regulations and directives on the County Committee process.

C. The FSA national office shall ensure that appropriate training of FSA county offices, including County Committees, is conducted on the implementation of these guidelines and of FSA's regulations and directives on the County Committee election process.

D. These uniform guidelines shall take effect immediately unless the date for a specific action in these guidelines has passed upon issuance of the guidelines.

Signed in Washington, DC, August 11, 2004.
Ann M. Veneman,
Secretary of Agriculture.

[FR Doc. 04-18774 Filed 8-16-04; 8:45 am]

BILLING CODE 3410-05-P